GENERAL SERVICES ADMINISTRATION

Privacy Act of 1974; Privacy Act System of Records

AGENCY: General Services Administration

ACTION: Final Notice

SUMMARY: The General Services Administration (GSA) is publishing a final notice for the Government-wide system of records, GSA SmartPay® Purchase Charge Card Program (GSA/GOVT-6). This final notice incorporates changes from feedback received to the notice originally published for public comment on June 16, 2006, proposing the establishment of the SmartPay® Purchase Charge Care Program as a system of records under the Privacy Act of 1974, 5 U.S.C. 552a. The feedback was provided by Federal agencies’ program coordinators and were minor in nature, consisting of requests for clarification of terms and inclusion of certain examples, i.e., an explanation of what constitutes an “expert, consultant, or contractor” in routine use h., and inclusion of “Approving Agency Officials and Federal agency/organization program coordinators” to clarify the types of Federal employees covered by the system. Additionally, minor editorial changes were made to ensure clarity. All changes were agreed to by the individuals who provided the feedback.

SUPPLEMENTARY INFORMATION: The GSA SmartPay® Purchase Charge Card Program (GSA/GOVT-6) system of records, for which GSA has Government-wide responsibility, assembles and maintains charge card related information and ensures the efficient and cost effective operation, control, and management of commercial purchasing activities by Federal agencies. The system includes personal information of individuals to enhance the Federal government’s ability to monitor official purchases, payments, and expenses involving purchase charge card transactions.

DATES: The system of records will become effective on the date of publication of this notice.

FOR FURTHER INFORMATION: Write the Director, Support Services Division, Federal Acquisition Service, General Services Administration, 1901 South Bell Street, Arlington VA 22202; or call the GSA Privacy Act Officer (CIB) on (202) 501-1452.

Dated: October 27, 2006.
Cheryl M. Paige
Acting Director, Office of Information Management.

GSA/GOVT-6

System name:

GSA SmartPay® Purchase Charge Card Program

System location:

System records are located at the Federal agency for which an individual is authorized to perform purchase charge card transactions. Records necessary for a contractor to perform under a Federal agency contract are located at the contractor's facility. Contact the System Manager for additional information.

Categories of individuals covered by the system:

Individuals covered by the system are Federal Agency Approving Officials; Federal Agency/Organization Program Coordinators; and Federal employees, contractors, and other individuals who apply for and/or use government-assigned purchase charge cards.

Categories of Records in the System:

The system provides control over expenditure of funds through the use of Federal government purchase cards. System records include:

a. Personal information on individuals who apply for and use Federal government charge cards including name and Social Security Number or other personal identifier (e.g., employee ID). The system also includes information of a non-personal nature such as agency of employment, business address (city, state, country, and zip code), title or position, business telephone, business fax number, and e-mail address.

b. Account processing and management information, including purchase authorizations and vouchers, charge card applications, charge card receipts, terms and conditions for card use, charge card transactions, contractor monthly reports showing charges to individual account numbers, account balances, and other data needed to authorize, account for, and pay authorized purchase card expenses.

Authorities for maintenance of the system:

E.O. 9397; E.O. 12931; 40 U.S.C. Sec. 501-502.

Purpose:

To establish and maintain a system for operating, controlling, and managing the purchase charge card program involving commercial purchases by authorized Federal government employees and contractors.

Routine uses of the system records, including categories of users and their purpose for using the system:

System information may be accessed and used by authorized Federal agency employees or contractors to conduct official duties associated with the management and operation of the purchase charge card program. Information from this system also may be disclosed as a routine use:

a. To a Federal, State, local, or foreign agency responsible for investigating, prosecuting, enforcing, or carrying out a statute, rule, regulation, or order, where an agency becomes aware of a violation or potential violation of civil or criminal law or regulation.

b. To an appeal, grievance, or formal complaints examiner; equal employment opportunity investigator; arbitrator; or other official engaged in investigating, or settling a grievance, complaint, or appeal filed by an individual who is the subject of the record.

c. To officials of labor organizations recognized under Pub. L. 95-454, when necessary to their duties of exclusive representation on personnel policies, practices, and matters affecting working conditions.

d. To another Federal agency in connection with the hiring or retention of an employee; the issuance of a security clearance; the reporting of an investigation; clarifying a job; the letting of a contract; or the issuance of a grant, license, or other benefit to the extent that the information is relevant and necessary to a decision.

e. To the Office of Personnel Management (OPM), the Office of Management and Budget (OMB), the Government Accountability Office (GAO) or other Federal agency when the information is required for program evaluation purposes.

f. To a Member of Congress or staff on behalf of and at the request of the individual who is the subject of the record.

g. To the National Archives and Records Administration (NARA) for records management purposes.

h. To an expert, consultant, or contractor in the performance of a Federal duty to which the information is relevant, including individuals, organizations, private or public agencies, or other entities or individuals with whom a Federal agency/organization has a contract or agreement to perform such services, including issuance of charge cards, as that agency/organization may deem practicable for the purposes of laws administered by the agency/organization, in order for the contractor, subcontractor, public or private agency, or other entity or individual with whom the agency/organization has an agreement or contract to perform the services of the contract or agreement. This routine use includes disclosures by the individual or entity performing the service for the Federal agency/organization to any secondary entity or individual to perform an activity that is necessary for individuals, organizations, private or public agencies, or other entities or individuals with whom the agency/organization has a contract or agreement to provide the service to the agency/organization.

i. To GSA in the form of listings, reports, and records of all transportation related transactions, including refunds and adjustments, by the contractor to enable audits of transportation related charges to the Government.

j. To GSA contract agents assigned to participating agencies for billing of purchase expenses.

k. To agency finance offices for debt collection purposes.

Policies and practices for storing, retrieving, accessing, retaining, and disposing of system records:

Storage:

Information may be collected on paper or electronically and may be stored on paper or on electronic media, as appropriate.

Retrievability:

Records may be retrieved by name, Social Security Number, credit card number, and/or other personal identifier (e.g., employee ID) or appropriate type of designation.

Safeguards:

System records are safeguarded in accordance with the requirements of the Privacy Act, the Computer Security Act, and OMB Circular A-130. Technical, administrative, and personnel security measures are implemented to ensure confidentiality and integrity of the system data stored, processed, and transmitted. Paper records are stored in secure cabinets or rooms to which only authorized individuals have access. Electronic records are protected by passwords and other appropriate security measures.

Retention and disposal:

Disposition of records is according to the National Archives and Records Administration (NARA) guidelines, as set forth in the handbook, GSA Records Maintenance and Disposition System (OAD P 1820.2A and CIO P 1820.1), authorized GSA records schedules, and by individual agencies.

System manager and address:

Director, Office of Commercial Acquisition (FC), General Services Administration, 1901 South Bell Street, Arlington VA 22202. Also, officials responsible for individual agency purchase card programs using the SmartPay® system (e.g., Federal Agency/Organization Program Coordinators).

Notification procedure:

Individuals may obtain information about their records from the purchase charge card program manager of the agency for which they transact purchases.

Record access procedures:

Requests from individuals for access to their records should be addressed to their agency's purchase charge card program manager or to the finance office of the agency for which the individual transacts purchases.

Contesting record procedures:

Individuals may access their records, contest the contents, and appeal determinations according to their agency’s rules.

Record source categories:

Information is obtained from individuals submitting charge card applications, monthly contractor reports, purchase records, managers, other agencies, non-Federal sources such as private firms, and other agency systems containing information pertaining to the purchase charge card program.

[FR Doc. E6-18600 Filed 11-02-06; 8:45 am]

BILLING CODE 6820-34-S